DEPARTMENT OF THE TREASURY

Office of Foreign Assets Control

Additional Identifying Information Associated With Perons Whose Property and Interests in Property Are Blocked Pursuant to the Executive Order of March 9, 2015, “Blocking Property and Suspending Entry of Certain Persons Contributing to the Situation in Venezuela”

AGENCY: Office of Foreign Assets Control, Treasury.

ACTION: Notice.

SUMMARY: The U.S. Department of the Treasury's Office of Foreign Assets Control (OFAC) is publishing additional identifying information associated with the seven individuals listed in the Annex to the Executive Order of March 9, 2015, “Blocking Property and Suspending Entry of Certain Persons Contributing to the Situation in Venezuela,” whose property and interests in property have been blocked.

FOR FURTHER INFORMATION CONTACT: Assistant Director, Sanctions Compliance & Evaluation, Office of Foreign Assets Control, U.S. Department of the Treasury, 1500 Pennsylvania Avenue NW., (Treasury Annex), Washington, DC 20220. Tel: (202) 622-2490.

SUPPLEMENTARY INFORMATION: This document and additional information concerning OFAC are available on OFAC's Web site (www.treasury.gov/ofac). Certain general information pertaining to OFAC's sanctions programs is available via facsimile through a 24-hour fax-on-demand service, tel.: 202/622-0077.

Background

On March 9, 2015, the President issued Executive Order, “Blocking Property and Suspending Entry of Certain Persons Contributing to the Situation in Venezuela” (“the Order”), pursuant to, inter alia, the International Emergency Economic Powers Act (50 U.S.C. 1701-06). The Order was effective at 12:01 a.m. eastern daylight time on March 9, 2015.

The Annex to the Order lists seven individuals whose property and interests in property are blocked pursuant to the Order. OFAC is publishing additional identifying information associated with those individuals.

The listings for these individuals on OFAC's list of Specially Designated Nationals and Blocked Persons appear as follows:

1. BENAVIDES TORRES, Antonio Jose (Latin: BENAVIDES TORRES, Antonio José); DOB 13 Jun 1961; POB Venezuela; citizen Venezuela; Gender Male; Cedula No. 6.371.374 (Venezuela); Passport 026719333 (Venezuela) expires 24 Aug 2014; Major General, Commander of the Strategic Region for the Integral Defense (REDI) of the Central Region, Venezuela's Bolivarian National Armed Forces (FANB); former Division General, Director of Operations, Venezuela's Bolivarian National Guard (GNB) (individual) [VENEZUELA].

2. BERNAL MARTINEZ, Manuel Gregorio (Latin: BERNAL MARTÍNEZ, Manuel Gregorio); DOB 12 Jul 1965; POB Caracas, Venezuela; nationality Venezuela; citizen Venezuela; Gender Male; Cedula No. 6.976.131 (Venezuela); Passport 0502004 (Venezuela) expires 19 Feb 2014; Brigadier General, Chief of the 31st Armored Brigade of Caracas of Venezuela's Bolivarian Army; former Director General of Venezuela's Bolivarian National Intelligence Service (SEBIN) (individual) [VENEZUELA].

3. GONZALEZ LOPEZ, Gustavo Enrique (Latin: GONZÁLEZ LÓPEZ, Gustavo Enrique); DOB 02 Nov 1960; POB Venezuela; nationality Venezuela; citizen Venezuela; Gender Male; Cedula No. 5.726.284 (Venezuela); Passport B0111931 (Venezuela); Director General of Venezuela's Bolivarian National Intelligence Service (SEBIN); Major General, President of Venezuela's Strategic Center of Security and Protection of the Homeland (CESPPA) (individual) [VENEZUELA].

4. HARINGHTON PADRON, Katherine Nayarith; DOB 05 Dec 1971; POB Caracas, Venezuela; citizen Venezuela; Gender Female; Cedula No. 10.548.414 (Venezuela); Passport 042677664 (Venezuela) expires 25 Feb 2016; National Level Prosecutor, 20th District, Venezuela's Public Ministry (individual) [VENEZUELA].

5. NOGUERA PIETRI, Justo Jose (Latin: NOGUERA PIETRI, Justo José); DOB 15 Mar 1961; POB Piritu, Venezuela; nationality Venezuela; citizen Venezuela; Gender Male; Cedula No. 5.944.426 (Venezuela); Passport B0942407 (Venezuela) expires 18 Dec 2006; alt. Passport 018295955 (Venezuela); President of the Venezuelan Corporation of Guayana (CVG); former Major General, General Commander of Venezuela's Bolivarian National Guard (GNB) (individual) [VENEZUELA].

6. PEREZ URDANETA, Manuel Eduardo (Latin: PÉREZ URDANETA, Manuel Eduardo); DOB 26 May 1962; POB Venezuela; citizen Venezuela; Gender Male; Cedula No. 6.357.038 (Venezuela); Passport 001234503 (Venezuela) expires 03 Jul 2012; Director of Venezuela's Bolivarian National Police (individual) [VENEZUELA].

7. VIVAS LANDINO, Miguel Alcides; DOB 08 Jul 1961; POB Venezuela; nationality Venezuela; citizen Venezuela; Gender Male; Cedula No. 7.617.778 (Venezuela); Passport B0097656 (Venezuela); Major General, Inspector General of Venezuela's Bolivarian National Armed Forces (FANB); former Commander of the Strategic Region for the Integral Defense (REDI) of the Andes Region, Venezuela's Bolivarian National Armed Forces (FANB) (individual) [VENEZUELA].

Dated: March 9, 2015.
John E. Smith,
Acting Director, Office of Foreign Assets Control.

[FR Doc. 2015-05928 Filed 3-13-15; 8:45 am]

BILLING CODE 4810-AL-P